DEPARTMENT OF JUSTICE

Notice of Lodging of Proposed Consent Decree Under the Clean Water Act

On February 9, 2018, the Department of Justice lodged a proposed Consent Decree with the United States District Court for the Southern District of Ohio in the lawsuit entitled United States and State of Ohio v. City of Middletown, Ohio, Civil Action No. 18-cv-90.

The Complaint seeks civil penalties and injunctive relief for alleged violations of the Clean Water Act and Middletown's National Pollutant Discharge Elimination System permit, primarily relating to pollutants in discharges from Middletown's wastewater treatment plant and from the city's combined sewer overflow outfalls. Under the proposed Consent Decree, Middletown would implement a Long Term Control Plan (“LTCP”) that includes (1) construction of two storage basins; (2) redirection of approximately 291 acres of storm sewershed away from the sewer system; and (3) redirection of storm water flow to a 1-acre green infrastructure basin. Taken together, these combined sewer overflow (“CSO”) control measures would reduce annual CSOs to six or fewer per typical year. The Consent Decree would require completion of the entire LTCP by January 1, 2043, with completion of one of the two storage facilities (with a capacity of 5.1 million gallons) by 2026. The Consent Decree also requires significant wastewater treatment plant updates and sewer system rehabilitation and pipe replacement. Under the Decree, Middletown would pay a $55,000 civil penalty, to be split evenly between the United States and Ohio, and perform a supplemental environmental project estimated to cost approximately $200,000.

The publication of this notice opens a period for public comment on the Consent Decree. Comments should be addressed to the Assistant Attorney General, Environment and Natural Resources Division, and should refer to United States and State of Ohio v. City of Middletown, Ohio, D.J. Ref. No. 90-5-1-1-08978. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.40 (25 cents per page reproduction cost) payable to the United States Treasury.

Randall M. Stone,
Acting Assistant Section Chief, Environmental Enforcement Section, Environment and Natural Resources Division.

[FR Doc. 2018-03118 Filed 2-14-18; 8:45 am]

BILLING CODE 4410-15-P